DEPARTMENT OF ENERGY

Federal Energy Regulatory Commission

[Docket No. EL01-118-000]

Investigation of Terms and Conditions of Public Utility Market-Based Rate Authorizations; Notice of Staff Conference

February 25, 2002.

A staff conference will be held on March 11, 2002, beginning at 9:30 a.m. in the Commission meeting room at the Federal Energy Regulatory Commission, 888 First Street, NE., Washington, DC.

The purpose of the conference is to discuss issues raised in the comments and reply comments that were filed in this proceeding. The conference will not address issues specific to the new generation market power screen, the Supply Margin Assessment (SMA), that the Commission announced in Docket No. ER96-2495-015, et al.

The conference is open for the public to attend. Additional details about the conference will be provided in a subsequent notice. Questions about the conference should be directed to: Saida E. Shaalan, Federal Energy Regulatory Commission, Office of Markets, Tariffs and Rates, 888 First Street, NE., Washington, DC. 20426, (202) 208-0278.

Magalie R. Salas,
Secretary.

[FR Doc. 02-4907 Filed 2-28-02; 8:45 am]

BILLING CODE 6717-01-P